ENVIRONMENTAL PROTECTION AGENCY

[FRL-7407-7]

Supplemental Information and Extension of Public Comment Period on the General National Pollutant Discharge Elimination System Permits for Log Transfer Facilities in Alaska: AK-G70-0000 and AK-G70-1000

AGENCY: Environmental Protection Agency (EPA).

ACTION: Notice of extension of public comment and request for additional public comments on general NPDES permits for log transfer facilities in Alaska.

SUMMARY: The Director, Office of Water, EPA Region 10, is extending the comment period on proposed modifications of the two general National Pollutant Discharge Elimination System (NPDES) permits for Alaskan log transfer facilities (LTFs), inconclusive of log storage areas: NPDES permit numbers AK-G70-0000 and AK-G70-1000. In addition, EPA Region 10 is providing clarification on an element in the proposed modifications dealing with bark deposition and application of a Zone of Deposit. Notice of a public comment period on the project area zone of deposit for bark and woody debris, and proposed modifications of the NPDES permits was published in the Federal Register on October 22, 2002, 67 FR 64885. Region 10 is extending the public comment period to January 13, 2002.

DATES: Interested persons may submit written comments on the proposed modifications to general NPDES permits AK-G70-0000 and AK-G70-1000 and on the project area zone of deposit on or before January 13, 2002.

ADDRESSES: Comments must be sent to the attention of Alaskan LTF Public Comments, EPA Region 10 (OW-130), 1200 Sixth Avenue, Seattle, WA 98101. All comments should include the name of the commenter, a concise statement of the comment, and the relevant facts upon which the comment is based.

FOR FURTHER INFORMATION CONTACT: The NPDES Permits Unit, EPA Region 10 Office of Water, Seattle, Washington, at (206) 553-0775.

SUPPLEMENTARY INFORMATION: The EPA published the public notice of its request for comment on the “project area zone of deposit” for LTFs and its proposed modification of two general permits for Alaskan log transfer facilities on October 22, 2002 (67 FR 64885). The October 22, 2002 Federal Register Notice announced a 60-day public comment period ending on December 23, 2002. The EPA did not, however, post the administrative record on the internet, provide copies of the record at its listed offices, nor distribute copies of the public notice and draft modified general permits to permittees and other interested parties in a timely fashion. Therefore, the EPA has determined to extend the public comment period to provide for sixty (60) days of comment following this present re-notice of public comment and proposed permit modification.

In addition to extending the comment period, the EPA seeks to clarify the October 22 Federal Register Notice (67 FR 64885) in regard to issues associated with the regulation of continuous coverage of bark and woody debris inside of the project area zone of deposit authorized by the State of Alaska Department of Environmental Conservation (ADEC). The EPA asks that commenters provide comment on the practical, technical, economic, environmental and legal considerations regarding one of two alternative permit conditions to address the physical and environmental impacts associated with continuous coverage of the seafloor by bark and woody debris that is discharged from LTFs. The two alternatives being considered by EPA are: (1) A 1 acre threshold on continuous bark coverage that, once exceeded, would require the development and implementation of a remediation plan overseen by ADEC; or (2) a 1 acre limit on continuous bark coverage in the two general NPDES permits, which if exceeded, would be a violation of the permit.

The first alternative is to provide a threshold of 1 acre of continuous bark coverage that would serve as an area of initiation for the development and implementation of a remediation plan to control and reduce the deposition of additional bark and woody debris that might contribute to the continuous coverage of additional area of seafloor in excess of 1 acre. The 1 acre threshold for remediation was provided by the ADEC in its certification of reasonable assurance that the general NPDES permits would meet the Alaska Water Quality Standards pursuant to Section 401 of the Clean Water Act. The ADEC has indicated that the 1 acre threshold was established in the Timber Task Force Guidelines and was meant to be a threshold for regulatory discretion to determine if cleanup was required, but was not intended to be a legal limit in a NPDES permit. Specifically, from Alaska Timber Task Force's (1985), Log transfer facility siting, construction, operations and monitoring/reporting guidelines (p. 11, section C6): “Bark accumulation: The regulatory agency(ies) will impose an interim intertidal and submarine threshold bark accumulation level. When accumulations exceed the threshold level, cleanup—if any—will occur at the discretion of the permitting agency(ies). The interim threshold bark accumulation level is described as 100% coverage exceeding both 1 acre in size and a thickness greater than 10 cm (3.9 inches) at any point.”

The second alternative is to provide a limit of 1 acre of continuous bark coverage no deeper than 10 centimeters at any point that would serve as a maximum area of coverage under the NPDES permit. The 1 acre limit of maximum continuous coverage was provided by the EPA in its proposed modification of the two general permits on October 22, 2002, based on information developed by the Timber Task Force Guidelines on the impacts of discharges of bark and woody debris and previous ADEC Section 401 Certifications. Please refer to the October 22, 2002 Federal Register Notice (67 FR 64885) for a more detailed discussion of the alternatives for controlling continuous coverage of the seafloor by bark and woody debris from LTFs.

The EPA also draws attention to an issue of the appropriate precision used in the term “1 acre.” The EPA's present October 22, 2002 Federal Register Notice uses the value “1.0 acre,” a more precise definition of the exact extent of bark coverage. The EPA asks for additional comment on which of these approaches to measurement precision is best.

Administrative Record: The two draft general NPDES permit nos. AK-G70-0000 and AK-G70-1000, the October 22, 2002, Federal Register Notice, and this Federal Register Notice are available for inspection and copying at six locations: (a) EPA-Juneau, 709 West 9th Street, Room 223A; (b) ADEC-Juneau, 410 Willoughby Avenue, Suite 200; (c) EPA-Anchorage, 222 West 7th Avenue, Room 19; (d) ADEC-Anchorage, 555 Cordova Street; (e) ADEC-Ketchikan, 540 Water Street; and (f) EPA-Seattle, 1200 Sixth Avenue, 10th Floor Library. These documents are also available on EPA Region 10's internet site at http://www.epa.gov/r10earth/. The administrative record for the proposed modifications reflected in the draft general NPDES permits AK-G70-0000 and AK-G70-1000 and the project area zone of deposit can be reviewed in the EPA's Seattle Office, 1200 Sixth Avenue, 13th Floor.

Dated: November 1, 2002.
Randall F. Smith,
Director, Office of Water, Region 10.

[FR Doc. 02-28850 Filed 11-12-02; 8:45 am]

BILLING CODE 6560-50-P